DEPARTMENT OF TRANSPORTATION

Coast Guard

[USCG-2002-13486]

Towing Safety Advisory Committee; Vacancy

AGENCY: Coast Guard, DOT.

ACTION: Request for applications.

SUMMARY: The Coast Guard seeks applications for membership on the Towing Safety Advisory Committee (TSAC). TSAC provides advice and makes recommendations to the Department of Transportation on matters relating to shallow-draft inland and coastal waterway navigation and towing safety.

DATES: Application forms should reach us on or before December 23, 2002.

ADDRESSES: You may request an application form by writing to TSAC Application; Commandant (G-MSO-1), Room 1210; U.S. Coast Guard; 2100 Second Street SW.; Washington, DC 20593-0001; by calling 202-267-0214; or by faxing 202-267-4570. Send your original completed and signed application in written form to the above street address. This notice is available on the Internet at http://dms.dot.gov and the application form is available at http://www.uscg.mil/hq/g-m/advisory/index.htm (Click on “ACM Application”.)

FOR FURTHER INFORMATION CONTACT: Mr. Gerald Miante; Assistant Executive Director of TSAC, telephone 202-267-0214, fax 202-267-4570, or e-mail gmiante@comdt.uscg.mil.

SUPPLEMENTARY INFORMATION: The Towing Safety Advisory Committee (TSAC) is a Federal advisory committee mandated by Congress and operates under 5 U.S.C. App. 2. It advises the Secretary of Transportation on matters relating to shallow-draft inland and coastal waterway navigation and towing safety. This advice also assists the Coast Guard in formulating the position of the United States in advance of meetings of the International Maritime Organization.

TSAC meets at least once a year at Coast Guard Headquarters, Washington, DC, or another location selected by the Coast Guard. It may also meet for extraordinary purposes. Its working groups may meet to consider specific issues as required. The 16 person membership includes 7 representatives of the barge and towing industry reflecting a regional geographical balance; 1 member from the offshore mineral and oil supply vessel industry; and 2 members from each of the following areas: Maritime labor; shippers (of whom at least one shall be engaged in the shipment of oil or hazardous materials by barge); port districts, authorities, or terminal operators; and the general public.

We are currently considering applications for only one position that became vacant in September 2002: A member from the general public to provide a perspective that is not representative of the towing or maritime industry. Examples of perspectives we are looking for would include those with an occupational safety and health, environmental protection, general business operations, public advocacy, or education background. Each member serves for a term of 3 years. A few members may serve consecutive terms. All members serve at their own expense and receive no salary, reimbursement of travel expenses, or other compensation from the Federal Government.

In support of the policy of the Department of Transportation on gender and ethnic diversity, we encourage qualified women and members of minority groups to apply.

If you are selected for appointment, we will require you to complete a Confidential Financial Disclosure Report (OGE Form 450). We may not release the report or the information in it to the public, except under an order issued by a Federal court or as otherwise provided under the Privacy Act (5 U.S.C. 552a).

Dated: October 4, 2002.
Joseph J. Angelo,
Director of Standards, Marine Safety, Security and Environmental Protection.

[FR Doc. 02-26550 Filed 10-17-02; 8:45 am]

BILLING CODE 4910-15-P